DEPARTMENT OF COMMERCE

International Trade Administration

[A-580-921]

Certain Monomers and Oligomers From the Republic of Korea: Preliminary Affirmative Determination of Sales at Less Than Fair Value, Preliminary Affirmative Determination of Critical Circumstances, in Part, and Postponement of Final Determination, and Extension of Provisional Measures

AGENCY: Enforcement and Compliance, International Trade Administration, Department of Commerce.

SUMMARY: The U.S. Department of Commerce (Commerce) preliminarily determines that certain monomers and oligomers (monomers and oligomers) from the Republic of Korea (Korea) are being, or are likely to be, sold in the United States at less than fair value (LTFV). The period of investigation (POI) is January 1, 2024, through December 31, 2024. Interested parties are invited to comment on this preliminary determination.

DATES: Applicable January 5, 2026.

FOR FURTHER INFORMATION CONTACT: Peter Shaw or Sun Cho, AD/CVD Operations, Office V, Enforcement and Compliance, International Trade Administration, U.S. Department of Commerce, 1401 Constitution Avenue NW, Washington, DC 20230; telephone: (202) 482-6458 or (202) 482-0697.

SUPPLEMENTARY INFORMATION:

Background

This preliminary determination is made in accordance with section 733(b) of the Tariff Act of 1930, as amended (the Act). Commerce published the notice of initiation of this investigation on April 23, 2025.¹ On August 19, 2025, Commerce postponed the preliminary determination of this investigation.²

¹ See Certain Monomers and Oligomers from the Republic of Korea and Taiwan: Initiation of Less-Than-Fair-Value Investigations, 90 FR 17044 (April 23, 2025) (Initiation Notice).

² See Certain Monomers and Oligomers from the Republic of Korea: Postponement of Preliminary Determination in the Less-Than-Fair-Value Investigation, 90 FR 40330 (August 19, 2025).

Due to the lapse in appropriations and Federal Government shutdown on November 14, 2025, Commerce tolled all deadlines in administrative proceedings by 47 days.³ Additionally, due to a backlog of documents that were electronically filed via Enforcement and Compliance's Antidumping and Countervailing Duty Centralized Electronic Service System (ACCESS) during the Federal Government shutdown, on November 24, 2025, Commerce tolled all deadlines in administrative proceedings by an additional 21 days.⁴ Accordingly, the deadline for this determination is now December 30, 2025.

³ See Memorandum, “Deadlines Affected by the Shutdown of the Federal Government,” dated November 14, 2025.

⁴ See Memorandum, “Tolling of all Case Deadlines,” dated November 24, 2025.

For a complete description of the events that followed the initiation of this investigation, see the Preliminary Decision Memorandum.⁵ A list of topics included in the Preliminary Decision Memorandum is included as Appendix II to this notice. The Preliminary Decision Memorandum is a public document and is on file electronically via ACCESS. ACCESS is available to registered users at https://access.trade.gov. In addition, a complete version of the Preliminary Decision Memorandum can be accessed directly at https://access.trade.gov/public/FRNoticesListLayout.aspx.

⁵ See Memorandum, “Decision Memorandum for the Preliminary Affirmative Determination of Sales at Less-Than-Fair-Value in the Investigation of Certain Monomers and Oligomers from the Republic of Korea,” dated concurrently with, and hereby adopted by, this notice (Preliminary Decision Memorandum).

Scope of the Investigation

The products covered by this investigation are monomers and oligomers from Korea. For a complete description of the scope of this investigation, see Appendix I.

Scope Comments

In accordance with the Preamble to Commerce's regulations,⁶ in the Initiation Notice, Commerce set aside a period of time for parties to raise issues regarding product coverage (i.e., scope).⁷ No interested party commented on the scope of the investigation as it appeared in the Initiation Notice. Commerce is not preliminarily modifying the scope language as it appeared in the Initiation Notice. The complete description of the scope is provided in Appendix I to this notice.

⁶ See Antidumping Duties; Countervailing Duties, Final Rule, 62 FR 27296, 27323 (May 19, 1997) (Preamble).

⁷ See Initiation Notice, 90 FR at 17045.

Methodology

Commerce is conducting this investigation in accordance with section 731 of the Act. Commerce calculated export and constructed export prices in accordance with sections 772(a) and (b) of the Act, respectively. Normal value is calculated in accordance with section 773 of the Act. Furthermore, pursuant to section 776(a) and (b) of the Act, Commerce has preliminarily relied upon facts otherwise available, with adverse inferences, to assign an estimated weighted-average dumping margin to Kukdo Chemicals Co. Ltd.⁸ For a full description of the methodology underlying the preliminary determination, see the Preliminary Decision Memorandum.

⁸ See Preliminary Decision Memorandum.

Preliminary Affirmative Determination Critical Circumstances, in Part

On August 18, 2025, the petitioner ⁹ timely filed a critical circumstances allegation, pursuant to section 733(e)(1) of the Act and 19 CFR 351.206(c)(1), alleging that critical circumstances exist with respect to imports of the subject merchandise from Korea.¹⁰

⁹ The petitioner is Arkema Inc.

¹⁰ See Petitioner's Letter, “Allegation of Critical Circumstances,” dated August 18, 2025.

Section 733(e)(1) of the Act provides that Commerce will preliminarily determine that critical circumstances exist in an LTFV investigation if there is a reasonable basis to believe or suspect that: (A) there is a history of dumping and material injury by reason of dumped imports in the United States or elsewhere of the subject merchandise, or the person by whom, or for whose account, the merchandise was imported knew or should have known that the exporter was selling the subject merchandise at less than its fair value and that there was likely to be material injury by reason of such sales; and (B) there have been massive imports of the subject merchandise over a relatively short period. We preliminarily find that critical circumstances exist for imports of subject merchandise produced and/or exported by Green Chemical Co., Ltd. (Green Chemical). Because we preliminarily applied the adverse-facts-available (AFA) rate to the company that did not respond to our quantity and value questionnaire (i.e., the non-responsive company),¹¹ as AFA, we preliminarily find that critical circumstances exist for Kukdo Chemicals as well. In addition, we preliminarily find that critical circumstances do not exist for imports of subject merchandise produced and/or exported by Miwon Specialty Chemical Co., Ltd. (Miwon) and all other producers and/or exporters. For a full discussion of our preliminary critical circumstances determination, see the “Preliminary Critical Circumstances” section of the Preliminary Decision Memorandum.

¹¹ The company that decided not to participate in this investigation and, therefore, did not respond to Commerce's Q&V questionnaire is Kukdo Chemicals Co. Ltd (Kukdo Chemicals).

All-Others Rate

Section 733(d)(1)(A)(ii) and 735(c)(5)(A) of the Act provides that in the preliminary determination Commerce shall determine an estimated all-others rate for all exporters and producers not individually examined. This rate shall be an amount equal to the weighted average of the estimated weighted-average dumping margins established for exporters and producers individually investigated, excluding any zero and de minimis margins, and any margins determined entirely under section 776 of the Act.

In this investigation, Commerce calculated estimated weighted-average dumping margins for Green Chemical and Miwon that are not zero, de minimis, or based entirely on facts otherwise available. Commerce calculated the all-others rate using a weighted average of the estimated weighted-average dumping margins calculated for the examined respondents using each company's publicly-ranged values for the merchandise under consideration.¹²

¹² With two respondents under examination, Commerce normally calculates: (A) a weighted-average of the estimated weighted-average dumping margins calculated for the examined respondents; (B) a simple average of the estimated weighted-average dumping margins calculated for the examined respondents; and (C) a weighted-average of the estimated weighted-average dumping margins calculated for the examined respondents using each company's publicly-ranged U.S. sales values for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53662 (September 1, 2010), and accompanying Issues and Decision Memorandum at Comment 1. For a complete analysis of the data, see Memorandum, “All-Others Rate Calculation,” dated concurrently with this notice.

Preliminary Determination

Commerce preliminarily determines that the following estimated weighted-average dumping margins exists:

Exporter/producer | Weighted- average dumping margin (percent)
Green Chemical Co., Ltd.; Green Life Science ¹³ | 65.72
Miwon Specialty Chemical Co., Ltd | 10.94
Kukdo Chemicals Co. Ltd | * 188.01
All Others | 15.59
* Rate is based on facts available with adverse inferences.

Suspension of Liquidation and Cash Deposit Requirements

¹³ We preliminarily collapsed Green Chemical Co., Ltd. and Green Life Science. See Preliminary Decision Memorandum.

Section 733(e)(2) of the Act provides that, given an affirmative determination of critical circumstances, any suspension of liquidation shall apply to unliquidated entries of subject merchandise entered, or withdrawn from warehouse, for consumption on or after the later of: (a) the date which is 90 days before the date on which the suspension of liquidation was first ordered; or (b) the date on which notice of initiation of the investigation was published. Commerce preliminarily finds that critical circumstances exist for imports of subject merchandise produced or exported by Green Chemical and Kukdo Chemicals. In accordance with section 733(e)(2)(A) of the Act, the suspension of liquidation shall apply to unliquidated entries of shipments of subject merchandise from Green Chemical and Kukdo Chemicals that were entered, or withdrawn from warehouse, for consumption on or after the date which is 90 days before the publication of this notice.

In accordance with section 733(d)(2) of the Act, with regard to Miwon and all other exporters and/or producers of subject merchandise, Commerce will direct U.S. Customs and Border Protection (CBP) to suspend liquidation of entries of subject merchandise, as described in Appendix I, entered, or withdrawn from warehouse, for consumption on or after the date of publication of this notice in the Federal Register.

Further, pursuant to section 733(d)(1)(B) of the Act and 19 CFR 351.205(d), Commerce will instruct CBP to require a cash deposit equal to the estimated weighted-average dumping margin or the estimated all-others rate, as follows: (1) the cash deposit rate for the respondents listed above will be equal to the company-specific estimated weighted-average dumping margins determined in this preliminary determination; (2) if the exporter is not a respondent identified above, but the producer is, then the cash deposit rate will be equal to the company-specific estimated weighted-average dumping margin established for that producer of the subject merchandise; and (3) the cash deposit rate for all other producers and exporters will be equal to the all-others estimated weighted-average dumping margin.

These suspension of liquidation instructions will remain in effect until further notice.

Disclosure

Commerce intends to disclose its calculations and analysis performed to interested parties in this preliminary determination within five days of any public announcement or, if there is no public announcement, within five days of the date of publication of this notice in the Federal Register, in accordance with 19 CFR 351.224(b).

Consistent with 19 CFR 351.224(e), Commerce will analyze and, if appropriate, correct any timely allegations of significant ministerial errors by amending the preliminary determination. However, consistent with 19 CFR 351.224(d), Commerce will not consider incomplete allegations that do not address the significance standard under 19 CFR 351.224(g) following the preliminary determination. Instead, Commerce will address such allegations in the final determination together with issues raised in the case briefs or other written comments.

Verification

As provided in section 782(i)(1) of the Act, Commerce intends to verify the information relied upon in making its final determination.

Public Comment

Case briefs or other written comments may be submitted to the Assistant Secretary for Enforcement and Compliance no later than seven days after the date on which the last verification report is issued in this investigation. Rebuttal briefs, limited to issues raised in case briefs, may be submitted no later than five days after the deadline date for case briefs.¹⁴ Note that Commerce has amended certain of its requirements pertaining to the service of documents in 19 CFR 351.303(f).¹⁵ Pursuant to 19 CFR 351.309(c)(2) and (d)(2), parties who submit case briefs or rebuttal briefs in this investigation are encouraged to submit with each argument: (1) a statement of the issue; (2) a brief summary of the argument; and (3) a table of authorities.

¹⁴ See 19 CFR 351.309(d); see also Administrative Protective Order, Service, and Other Procedures in Antidumping and Countervailing Duty Proceedings, 88 FR 67069, 67077 (September 29, 2023) (APO and Service Final Rule).

¹⁵ See APO and Service Final Rule.

As provided under 19 CFR 351.309(c)(2)(iii) and (d)(2)(iii), we request that interested parties provide at the beginning of their briefs a public, executive summary for each issue raised in their briefs.¹⁶ Further, we request that interested parties limit their executive summary of each issue to no more than 450 words, not including citations. We intend to use the executive summaries as the basis of the comment summaries included in the issues and decision memorandum that will accompany the final determination in this investigation. We request that interested parties include footnotes for relevant citations in the executive summary of each issue. Note that Commerce has amended certain of its requirements pertaining to the service of documents in 19 CFR 351.303(f).¹⁷

¹⁶ We use the term “issue” here to describe an argument that Commerce would normally address in a comment of the Issues and Decision Memorandum.

¹⁷ See APO and Service Final Rule.

Pursuant to 19 CFR 351.310(c), interested parties who wish to request a hearing, limited to issues raised in the case and rebuttal briefs, must submit a written request to the Assistant Secretary for Enforcement and Compliance, U.S. Department of Commerce, within 30 days after the date of publication of this notice in the Federal Register. Requests should contain the party's name, address, and telephone number, the number of participants, whether any participant is a foreign national, and a list of the issues to be discussed. If a request for a hearing is made, Commerce intends to hold the hearing at a time and date to be determined. Parties should confirm by telephone the date, time, and location of the hearing two days before the scheduled date.

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioner. Section 351.210(e)(2) of Commerce's regulations requires that a request by exporters for postponement of the final determination be accompanied by a request for extension of provisional measures from a four-month period to a period not more than six months in duration.

On November 24, 2025, pursuant to 19 CFR 351.210(b)(2)(ii), Miwon requested that Commerce postpone the final determination and that provisional measures be extended to a period not to exceed six months; ¹⁸ on December 4, 2025, Green Chemical also requested that Commerce postpone the final determination and extend the application of provisional measures by a corresponding period of extension.¹⁹ On November, 21, 2025, the petitioner requested that Commerce postpone the final determination in the event of a negative preliminary determination.²⁰ In accordance with section 735(a)(2)(A) of the Act and 19 CFR 351.210(b)(2)(ii), because: (1) the preliminary determination is affirmative; (2) the requesting exporter accounts for a significant proportion of exports of the subject merchandise; and (3) no compelling reasons for denial exist, Commerce is postponing the final determination and extending the provisional measures from a four-month period to a period not greater than six months. Accordingly, Commerce will make its final determination no later than 135 days after the date of publication of this preliminary determination.

¹⁸ See Miwon's Letter, “Request for Postponement of Final Determination,” dated November 24, 2025.

¹⁹ See Green Chemical's Letter, “Request to Extend Final Determination,” dated December 4, 2025.

²⁰ See Petitioner's Letter, “Request to Postpone Final Determination,” dated November 21, 2025.

U.S. International Trade Commission Notification

In accordance with section 733(f) of the Act, Commerce will notify the U.S. International Trade Commission (ITC) of its preliminary determination. If the final determination is affirmative, the ITC will determine before the later of 120 days after the date of this preliminary determination or 45 days after the final determination whether imports of monomers and oligomers from Korea are materially injuring, or threaten material injury to, the U.S. industry.

Notification to Interested Parties

This determination is issued and published in accordance with sections 733(f) and 777(i)(1) of the Act, and 19 CFR 351.205(c).

Dated: December 30, 2025.
Christopher Abbott,
Deputy Assistant Secretary for Policy and Negotiations, performing the non-exclusive functions and duties of the Assistant Secretary for Enforcement and Compliance.

Appendix I

Scope of the Investigation

The products subject to these investigations are certain multifunctional acrylate and methacrylate monomers, and acrylated bisphenol-A epoxy based oligomers (collectively, certain monomers and oligomers or CMOs) that are derived from chemical reactions involving the use of acrylic or methacrylic acid. Products within the scope are listed below and have the following Chemical Abstracts Service (CAS) numbers:

CAS No. | Description | Molecular formula
109-16-0 | Triethylene glycol dimethacrylate (TEGDMA) | C14H22O6
13048-33-4 | 1,6-hexanediol diacrylate (HDDA) | C12H18O4
42978-66-5 | Tripropylene glycol diacrylate (TPGDA) | C15H24O6
3290-92-4 | Trimethylolpropane trimethacrylate (TMPTMA) | C18H26O6
15625-89-5 | Trimethylolpropane triacrylate (TMPTA) | C15H20O6
28961-43-5 | Ethoxylated trimethylol-propane triacrylate (EOTMPTA) | (C2H4O)n(C2H4O)n(C2H4O)nC15H20O6
57472-68-1 | Dipropylene glycol diacrylate (DPGDA) | C12H18O5
55818-57-0 | Bisphenol-A-epichlorohydrin copolymer acrylate (EPOXY ACRYLATE) | (C15H16O2.C3H5ClO)x.xC3H4O2

The monomers are generally known as multifunctional acrylates (MFAs) or multifunctional methacrylates (MFMAs) depending on whether the functional groups are acrylate or methacrylate. The monomers generally contain stabilizers/inhibitors, which include but are not limited to Hydroquinone, Methyl Hydroquinone, and Butylated Hydroxy Toluene. The monomers are either difunctional or trifunctional (having 2 or 3 functional groups/molecule), have viscosities of 9 to 15 centipoise (cPs) at 25 degrees Celsius (if difunctional) or 44 to 110 cPs at 25 degrees Celsius (if trifunctional), have (meth)acrylate equivalent weights (molecular weight per number of functional groups) between 99 and 158 and molecular weights between 226 and 472 grams per mol.

The acrylated bisphenol-A epoxy based oligomer is commonly referred to as epoxy acrylate or acrylated epoxy. In contrast to epoxy resin, the main characteristic of the epoxy acrylate oligomer is that it contains acrylate functional groups which make them curable by free-radical polymerization. The epoxy acrylate has a molecular weight between 508 to 536 grams per mol and a viscosity of 2400 to 3600 cPs at 65 degrees Celsius. The epoxy acrylate generally contains stabilizers/inhibitors, which include but are not limited to Hydroquinone, Methyl Hydroquinone, and Butylated Hydroxy Toluene.

Certain monomers and oligomers are subject to the scope even if an in-scope monomer or oligomer is blended or mixed with one or more other in-scope monomers or oligomers.

Certain monomers and oligomers in any blend or mixture are also subject to the scope, so long as the blend or mixture contains no less than 20 percent by weight of in-scope CMOs.

The scope includes merchandise matching the above description that has been processed in a third country, including by commingling, diluting, introducing, or removing ingredients, or performing any other processing that would not otherwise remove the merchandise from the scope of the investigations if performed in the subject country.

The scope also includes CMOs that are commingled, mixed or blended with in-scope product from sources not subject to these investigations.

Only the subject component(s) of such blends, mixtures or commingled products described above is covered by the scope of these investigations. Subject merchandise contained in a blended, mixed or commingled product described above will not have undergone a chemical reaction as a result of being blended, mixed or commingled.

Notwithstanding the above, specifically excluded from the scope are downstream products, including but not limited to, inks, coatings and overprint varnishes. For purposes of this exclusion, the downstream product requires only the application of energy to be cured, e.g., inks or varnish applied to packaging, coatings applied to wood flooring, etc. The energy source required to cure the downstream product to its substrate can be thermal, ultraviolet radiation, visible light, electron beam radiation, or infrared radiation.

This merchandise is currently classifiable under Harmonized Tariff Schedule of the United States (HTSUS) subheadings 2916.12.5050, 2916.14.2050, 3824.99.2900, 3907.29.0000 and 3907.30.0000. Subject merchandise may also be entered under subheadings 2916.12.1000 and 3824.99.9397. The HTSUS subheadings and CAS registry numbers are provided for convenience and customs purposes only; the written description of the scope is dispositive.

Appendix II

List of Topics Discussed in the Preliminary Decision Memorandum

I. Summary

II. Background

III. Period of Investigation

IV. Application of Facts Available with Adverse Inferences

V. Affiliation and Single Entity Treatment

VI. Discussion of the Methodology

VII. Preliminary Affirmative Determination of Critical Circumstances, In Part

VIII. Currency Conversion

IX. Recommendation

[FR Doc. 2025-24280 Filed 1-2-26; 8:45 am]

BILLING CODE 3510-DS-P